DEPARTMENT OF TRANSPORTATION

Coast Guard

[USCG-2001-10998]

National Coast Guard Museum; Environmental Assessment

AGENCY: Coast Guard, DOT.

ACTION: Notice of availability; request for public comments.

SUMMARY: The Coast Guard announces the availability of a draft Environmental Assessment on its proposal to accept a gift of land for purposes of relocating the Coast Guard Museum to a site near the U.S. Coast Guard Academy in New London, Connecticut. We request your comments on this draft assessment.

DATES: Comments and related material must reach the Docket Management Facility on or before January 7, 2002.

ADDRESSES: To make sure that your comments and related material are not entered more than once in the docket, please submit them by only one of the following means:

(1) By mail to the Docket Management Facility, (USCG-2001-10998), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the web site for the Docket Management System at http://dms.dot.gov.

The Docket Management Facility maintains the public docket for this notice. Comments and material received from the public, as well as the draft Environmental Assessment (EA), will become part of this docket and will be available for inspection or copying at room PL-401 on the Plaza level of the Nassif Building, 400 Seventh Street SW., Washington, DC, between 9 a.m. and 5 p.m., Monday through Friday, except Federal holidays. You may also find this docket, including the draft EA, on the Internet at http://dms.dot.gov. (Once you enter the web site, click on “Search,” enter the last five digits of the docket number (“10998”) in the search box, and press the Enter key.)

FOR FURTHER INFORMATION CONTACT: If you have questions on this notice, the proposed project, or the associated draft EA, call Frank Esposito, Coast Guard Headquarters, at 202-267-0053. If you have questions on viewing or submitting material to the docket, call Dorothy Beard, Chief, Dockets, Department of Transportation, at 202-366-5149.

SUPPLEMENTARY INFORMATION:

Request for Comments

We encourage you to submit comments and related material on the draft Environmental Assessment (EA). If you do so, please include your name and address, identify the docket number for this notice (USCG-2001-10998) and give the reasons for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

Proposed Action

The Coast Guard seeks to obtain and operate a new national museum to record and display its rich history and artifacts which document the development of America's oldest continuous sea-going service. A feasibility study has been performed. The study found that many large artifacts, such as historic lifesaving watercraft and helicopters, as well as the vast number of artifacts, cannot be displayed at the current site, Waesche Hall on the grounds of the U.S. Coast Guard Academy in New London, Connecticut, because of a lack of space. The new museum, located in proximity to the Academy, would permit the Coast Guard to bring its large collection of artifacts together for exhibition in a single museum that would serve as an institution of enduring value providing professional growth and development for current and future leaders of the Coast Guard.

The existing 5,000-square-foot museum serves some 20,000 visitors annually. The proposed 40,000-square-foot museum would offer a potential tenfold increase in visitation—up to 200,000 visitors per year.

Draft Environmental Assessment

The Environmental Impact Analysis Process (EIAP) is the process federal agencies use to facilitate compliance with relevant environmental requirements relating to their actions. The primary environmental legislation affecting the agency decision-making process is the National Environmental Policy Act (NEPA). This Environmental Assessment (EA) considers the potential environmental impacts of a decision by the Coast Guard, subject to site requirement criteria, whether or not to accept land on which to construct a new National Coast Guard Museum to replace its existing museum.

We are requesting your comments on environmental concerns you may have related to the draft EA. This includes suggesting analyses and methodologies for use in the EA or possible sources of data or information not included in the draft EA. Your comments will be considered in preparing the final EA.

Dated: November 15, 2001.
G.P. Fleming,
Acting Assistant Commandant for Governmental and Public Affairs.

[FR Doc. 01-29081 Filed 11-20-01; 8:45 am]

BILLING CODE 4910-15-U